DEPARTMENT OF HEALTH AND HUMAN SERVICES

Health Resources and Service Administration

National Advisory Council on the National Health Service Corps; Notice of Meeting

AGENCY: Health Resources and Service Administration (HRSA), Department of Health and Human Services (HHS).

ACTION: Notice of Advisory Committee meeting.

SUMMARY: In accordance with the Federal Advisory Committee Act, this notice announces that the National Advisory Council of the National Health Service Corps (NACNHSC) will hold a public meeting.

DATES: Tuesday, May 15, 2018, 2:00 p.m. to 5:30 p.m. ET.

ADDRESSES: The meeting is a teleconference and webinar. The conference call-in number is 1-800-619-2521; passcode: 9271697. The webinar link is https://hrsa.connectsolutions.com/nacnhsc.

FOR FURTHER INFORMATION CONTACT: Diane Fabiyi-King, Designated Federal Official (DFO), Division of National Health Service Corps (NHSC), Bureau of Health Workforce (BHW), HRSA. Address: 5600 Fishers Lane, Room 14N110, Rockville, Maryland 20857; phone: (301) 443-3609; or email: DFabiyi-King@hrsa.gov.

SUPPLEMENTARY INFORMATION:

Background: NACNHSC consults, advises, and makes recommendations to the Secretary of HHS and HRSA's Administrator, with respect to their responsibilities under Subpart II, Part D of Title III of the Public Health Service Act, as amended (NHSC and Health Professional Shortage Area Designations). The NACNHSC also reviews and comments on regulations promulgated by the Secretary under Subpart II.

Agenda: During the May 15, 2018, meeting, NACNHSC will discuss issues related to current focus areas of the NHSC. Information about the NACNHSC, a roster of members, the meeting agenda, as well as past meeting summaries is located on the NACNHSC website: https://nhsc.hrsa.gov/corpsexperience/aboutus/nationaladvisorycouncil/.

Public Participation: Members of the public and interested parties may request to participate in the meeting or provide oral public comment during the meeting by contacting Monica-Tia Bullock via email at MBullock@hrsa.gov by May 10, 2018. Public comment will be limited to three (3) minutes per speaker.

Public participants may also submit written statements in advance of the scheduled meeting. Written statements are due to Monica-Tia Bullock at MBullock@hrsa.gov by May 10, 2018. Please be advised that committee members will receive copies of all written statements submitted from the public. Any further public participation will be at the sole discretion of the Chair, with approval from the DFO.

Amy P. McNulty,
Acting Director, Division of the Executive Secretariat.

[FR Doc. 2018-09825 Filed 5-8-18; 8:45 am]

BILLING CODE 4165-15-P